DEPARTMENT OF HEALTH AND HUMAN SERVICES

Health Resources and Services Administration

“Low Income Levels” Used for Various Health Professions and Nursing Programs Authorized in Titles III, VII, and VIII of the Public Health Service Act

AGENCY: Health Resources and Services Administration (HRSA), Department of Health and Human Services (HHS).

ACTION: Notice.

SUMMARY: HRSA is updating income levels used to identify a “low income family” for the purpose of determining eligibility for programs that provide health professions and nursing training to individuals from disadvantaged backgrounds. These various programs are authorized in Titles III, VII, and VIII of the Public Health Service Act.

SUPPLEMENTARY INFORMATION: HHS periodically publishes in the Federal Register low-income levels to be used by institutions receiving grants and cooperative agreements to determine eligibility for programs providing training for (1) disadvantaged individuals, (2) individuals from disadvantaged backgrounds, or (3) individuals from low-income families.

Many health professions and nursing grant and cooperative agreement awardees use the low-income levels to determine whether potential program participants are from an economically disadvantaged background and would be eligible to participate in the program, as well as to determine the amount of funding the individual receives. Awards are generally made to accredited schools of medicine, osteopathic medicine, public health, dentistry, veterinary medicine, optometry, pharmacy, allied health, podiatric medicine, nursing, and chiropractic; public or private nonprofit schools which offer graduate programs in behavioral health and mental health practice; and other public or private nonprofit health or education entities to assist the disadvantaged to enter and graduate from health professions and nursing schools. Some programs provide for the repayment of health professions or nursing education loans for disadvantaged students.

A “low-income family/household” for workforce training programs included in Titles III, VII, and VIII of the Public Health Service Act is defined as having an annual income that does not exceed 200 percent of the Department's poverty guidelines. A family is a group of two or more individuals related by birth, marriage, or adoption who live together.

Most HRSA programs use the income of a student's parent(s) to compute low income status. However, a “household” may potentially be only one person. Other HRSA programs, depending upon the legislative intent of the program, the programmatic purpose related to income level, as well as the age and circumstances of the participant, will apply these low income standards to the individual student to determine eligibility, as long as he or she is not listed as a dependent on the tax form of his or her parent(s). Each program announces the rationale and choice of methodology for determining low-income levels in program guidance.

Low-income levels are adjusted annually based on HHS's poverty guidelines. HHS's poverty guidelines are based on poverty thresholds published by the U.S. Census Bureau, adjusted annually for changes in the Consumer Price Index. The income figures below have been updated to reflect the Department's 2020 poverty guidelines as published in 85 FR 12 (January 17, 2020).

Low Income Levels Based on the 2020 Poverty Guidelines for the 48 Contiguous States and the District of Columbia
Persons in family/household * | Income level **
1 | $25,520
2 | 34,480
3 | 43,440
4 | 52,400
5 | 61,360
6 | 70.320
7 | 79,280
8 | 88,240
For families with more than 8 persons, add $8,960 for each additional person.
* Includes only dependents listed on federal income tax forms.
** Adjusted gross income for calendar year 2019.

Low Income Levels Based on the 2020 Poverty Guidelines for Alaska
Persons in family/household * | Income level **
1 | $31,900
2 | 43,100
3 | 54,300
4 | 65,500
5 | 76,700
6 | 87,900
7 | 99,100
8 | 110,300
For families with more than 8 persons, add $11,200 for each additional person.
* Includes only dependents listed on federal income tax forms.
** Adjusted gross income for calendar year 2019.

Low Income Levels Based on the 2020 Poverty Guidelines for Hawaii
Persons in family/household * | Income level **
1 | $29,360
2 | 39,660
3 | 49,960
4 | 60,260
5 | 70,560
6 | 80,860
7 | 91,160
8 | 101,460
For families with more than 8 persons, add $10,300 for each additional person.
* Includes only dependents listed on federal income tax forms.
** Adjusted gross income for calendar year 2019.

Separate poverty guidelines figures for Alaska and Hawaii reflect Office of Economic Opportunity administrative practice beginning in the 1966-1970 period since the U.S. Census Bureau poverty thresholds do not have separate figures for Alaska and Hawaii. The poverty guidelines are not defined for Puerto Rico or other outlying jurisdictions. Puerto Rico and other outlying jurisdictions shall use income guidelines for the 48 Contiguous States and the District of Columbia.

Dated: February 18, 2020.
Thomas J. Engels,
Administrator.

[FR Doc. 2020-03590 Filed 2-21-20; 8:45 am]

BILLING CODE 4165-15-P